DEPARTMENT OF COMMERCE

National Oceanic and Atmospheric Administration

RIN 0648-XT81

North Pacific Fishery Management Council; Public Meeting

AGENCY: National Marine Fisheries Service (NMFS), National Oceanic and Atmospheric Administration (NOAA), Commerce.

ACTION: Notice of a public meeting by teleconference.

SUMMARY: The North Pacific Fishery Management Council's (Council) Individual Fishing Quota (IFQ) Implementation Team will have a teleconference on February 4, 2010. The conference number to call is (907) 271-2896.

DATES: The teleconference will be held on February 4, 2010 at 9 a.m. (Alaska Standard Time).

ADDRESSES: The teleconference will be held at the North Pacific Fishery Management Council, 605 W. 4th Avenue, Suite 306, Anchorage, AK.

FOR FURTHER INFORMATION CONTACT: Jane DiCosimo, Council staff; telephone: (907) 271-2809.

SUPPLEMENTARY INFORMATION: The Team will review four new proposals, which can be reviewed on the Council website at http://www.alaskafisheries.noaa.gov/npfmc/ and rank the priority of all recommended proposals.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

The meeting is physically accessible to people with disabilities. Requests for sign language interpretation or other auxiliary aids should be directed to Gail Bendixen at (907) 271-2809 at least 7 working days prior to the meeting date.

Dated: January 12, 2010.
Tracey L. Thompson,
Acting Director, Office of Sustainable Fisheries, National Marine Fisheries Service.

[FR Doc. 2010-653 Filed 1-14-10; 8:45 am]

BILLING CODE 3510-22-S